DEPARTMENT OF LABOR

Mine Safety and Health Administration

Petitions for Modification

The following parties have filed petitions to modify the application of existing safety standards under section 101(c) of the Federal Mine Safety and Health Act of 1977.

1. Black Stallion Coal Company, LLC

[Docket No. M-2005-055-C]

Black Stallion Coal Company, LLC, 500 Lee Street, P.O. Box 1189, Charleston, West Virginia 25324 has filed a petition to modify the application of 30 CFR 75.503 (Permissible electric face equipment; maintenance) and 30 CFR 18.35 (Portable trailing cables and cords) to its Black Stallion Mine (MSHA I.D. No. 40-09086) located in Boone County, West Virginia. The petitioner proposes to use 900 feet of trailing cable on Roof bolters and Mobil Roof Supports. The petitioner states that this proposed alternative method will only apply to trailing cables that supply 480-volt, three-phase, alternating current to roof bolters and mobile roof supports. The petitioner asserts that the proposed alternative method would provide at least the same measure of protection as the existing standard.

2. Hawthorne Coal Company, LLC

[Docket No. M-2005-056-C]

Hawthorne Coal Company, LLC, 2708 Cranberry Square, Morgantown, West Virginia 26505 has filed a petition to modify the application of 30 CFR 77.214(a) to its Hawthorne Preparation Plant (MSHA I.D. No. 46-05544) located in Upshur County, West Virginia. The petitioner requests a modification of the existing standard to permit the extension of Hawthorne's Reed Hollow Refuse Pile over four sealed openings to the Grand Badger Mine No. 1A, now owned by Hawthorne which was abandoned in 1986. The petitioner states that a fifth opening will not be affected by the refuse pile expansion. The petitioner asserts that the proposed alternative method would provide at least the same measure of protection as the existing standard.

3. McElroy Coal Company

[Docket No. M-2005-057-C]

McElroy Coal Company, RD#4, Box 425, Moundsville, West Virginia 26041 has filed a petition to modify the application of 30 CFR 77.214(a) (Refuse piles; general) to its McElroy Mine (MSHA I.D. No. 46-01437) located in Marshall County, West Virginia. The petitioner proposes to construct a soil buffer zone around the escape shaft with a minimum radius of 50-feet rather than the required radius of 300-feet. The petitioner states that the soil in the 50-foot buffer zone will be placed in maximum 12-inch thick loose lifts and will be compacted to a minimum of 95 percent of the standard Proctor maximum dry density as determined by ASTM D 698; the soil will be within −2 percent to +3 percent of the material's optimum moisture content as determined by ASTM D 698; and coarse refuse will be placed in the remainder of the 300-foot radius. The petitioner asserts that to construct a 300-foot soil buffer zone does not significantly increase the safety concerns related to the shaft structure and the proposed alternative method would provide at least the same measure of protection as the existing standard.

4. Dodge Hill Mining Company, LLC

[Docket No. M-2005-058-C]

Dodge Hill Mining Company, LLC, P.O. Box 165, Sturgis, Kentucky 42459 has filed a petition to modify the application of 30 CFR 75.1101-1(b) (Deluge-type water spray systems) to its Dodge Hill Mine #1 (MSHA I.D. No. 15-18335) located in Union County, Kentucky. The petitioner requests a modification of the existing standard to permit a variance from the use of dust covers. The petitioner instead proposes to have a person who is trained in the testing procedures specific to the deluge-type water spray fire suppression systems used at each belt drive to once a week conduct a visual examination of each of the deluge-type water spray fire suppression systems; conduct a functional test of the deluge-type water spray fire suppression system by actuating the system and observing its performance; and record the results of the examination and functional test in a book provided on the surface available for authorized representatives of the Secretary and retained for one year. The petitioner states that all nozzles that are determined to be clogged or malfunctioning will be corrected immediately. The petitioner asserts that the proposed alternative method would provide at least the same measure of protection as the existing standard.

5. Hopkins County Coal, LLC

[Docket No. M-2005-059-C]

Hopkins County Coal, LLC, 2668 St. Rt. 120E, Providence, Kentucky 42450 has filed a petition to modify the application of 30 CFR 75.1700 (Oil and gas wells) to its Elk Creek Mine (MSHA I.D. No. 15-28816) located in Hopkins County, Kentucky. The petitioner proposes to plug and mine through oil and gas wells in all mineable coalbeds. The petitioner asserts that the proposed alternative method would provide at least the same measure of protection as the existing standard.

6. Simplot Phosphates, LLC

[Docket No. M-2005-002-M]

Simplot Phosphates, LLC, 9401 North Highway 191, Vernal, Utah 84078 has filed a petition to modify the application of 30 CFR 56.9300 (Berms or guardrails) to its Vernal Pit and Mill (MSHA I.D. No. 42-00998) located in Unitah County, Utah. The petitioner requests a modification of the existing standard to permit an alternative method of compliance during construction work on a tailings dam impoundment. The petitioner proposes to raise the height to the dam in several lift phases during tailings dam construction. The lift phases will occur roughly every other year depending on recoveries, evaporation, annual precipitation, and size of lift phases. The petitioner states that the lift phases are typically scheduled during the summer season to avoid poor weather conditions. The petitioner asserts that the proposed alternative method would provide at least the same measure of protection as the existing standard.

7. Unimin Corporation

[Docket No. M-2005-003-M]

Unimin Corporation, 258 Elm Street, New Canaan, Connecticut 06840 has filed a petition to modify the application of 30 CFR 56.13020 (Use of compressed air) to its Unimin Hamilton Operation (MSHA I.D. No. 45-00779) located in Skagit County, Washington. The petitioner proposes to implement a clothes cleaning booth process that has been jointly developed with and successfully tested by the National Institute for Occupational Safety and Health (NIOSH). The petitioner states that the process utilizes controlled compressed air for the purpose of cleaning miners' dust laden clothing. The petitioner asserts that the proposed alternative method would provide at least the same measure of protection as the existing standard.

8. Unimin Corporation

[Docket No. M-2005-004-M]

Unimin Corporation, 258 Elm Street, New Canaan, Connecticut 06840 has filed a petition to modify the application of 30 CFR 56.13020 (Use of compressed air) to its Unimin McIntyre Operation (MSHA I.D. No. 09-00128) located in Wilkinson County, Georgia. The petitioner proposes to implement a clothes cleaning booth process that has been jointly developed with and successfully tested by the National Institute for Occupational Safety and Health (NIOSH). The petitioner states that the process utilizes controlled compressed air for the purpose of cleaning miners' dust laden clothing. The petitioner asserts that the proposed alternative method would provide at least the same measure of protection as the existing standard.

9. Phelps Dodge Bagdad

[Docket No. M-2005-005-M]

Phelps Dodge Bagdad, 100 Main Street, Bagdad, Arizona 86321 has filed a petition to modify the application of 30 CFR 56.6309 (Fuel oil requirements for ANFO) to its Bagdad Mine (MSHA I.D. No. 02-00137) located in Yavapai County, Arizona. The petitioner proposes to use recycled waste oil blended with diesel fuel to produce ammonium nitrate-fuel oil for use as a blasting agent. The petitioner has listed specific procedures in this petition for modification that would be followed when the proposed alternative method is implemented. The petitioner asserts that the proposed alternative method would provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before September 21, 2005. Copies of these petitions are available for inspection at that address.

Dated at Arlington, Virginia this 17th day of August 2005.
Rebecca J. Smith,
Acting Director, Office of Standards, Regulations, and Variances.

[FR Doc. 05-16625 Filed 8-19-05; 8:45 am]

BILLING CODE 4510-43-P